DEPARTMENT OF THE INTERIOR

Office of the Secretary, Office of the Special Trustee for American Indians; Privacy Act of 1974, as Amended; Addition of a New System of Records

AGENCY: Office of the Secretary, Office of the Special Trustee for American Indians (OST).

ACTION: Proposed addition of a new System of Records.

SUMMARY: In accordance with the Privacy Act of 1974, as amended (5 U.S.C. 552a), the Office of the Secretary is issuing public notice of its intent to add a new Privacy Act system of records, OS-08, entitled “OST Parking Assignment Records.”

DATES: Comments must be received by January 28, 2009.

ADDRESSES: Any persons interested in commenting on this proposed addition of a new Privacy Act system of records may do so by submitting comments in writing to the Office of the Secretary Acting Privacy Act Officer, Linda S. Thomas, U.S. Department of the Interior, MS 116-SIB, 1951 Constitution Avenue, NW., Washington, DC 20240, or by e-mail to Linda_Thomas@nbc.gov.

FOR FURTHER INFORMATION CONTACT: Parking Program Coordinator, Budget, Finance & Administration, Office of the Special Trustee for American Indians, U.S. Department of the Interior, 4400 Masthead Street, NE., Albuquerque, NM 87109.

SUPPLEMENTARY INFORMATION: The OST Parking Assignment Records system will contain information from individuals and potentially representatives of businesses seeking parking permits in spaces in the parking lot adjacent to the OST building. The system will contain application forms including, where applicable, such information as name, supervisor's name, location of employment, work telephone number, home telephone number, position title, vehicle(s) make and model, state of vehicle registration, license tag number, expiration date, color of vehicle, parking permit number, and number of carpool riders. Collection of data will be by individuals submitting a parking application form. The system will be effective as proposed unless we receive comments that lead us to change it. The Office of the Secretary will publish a revised notice if changes are made based upon a review of comments received.

Dated: December 16, 2008.
Linda S. Thomas,
Office of the Secretary, Acting Privacy Act Officer.

SYSTEM NAME:

“OST Parking Assignment Records.” OS-08.

SYSTEM LOCATION:

Budget, Finance and Administration, Office of the Special Trustee for American Indians, U.S. Department of the Interior, 4400 Masthead Street, NE, Albuquerque, NM 87109.

CATEGORIES OF INDIVIDUALS COVERED BY THE SYSTEM:

Individuals requesting a parking permit or joining a carpool from the Federal government, including Government employees, contractors, and other individuals providing services or conducting business with the OST.

CATEGORIES OF RECORDS IN THE SYSTEM:

The information collected will include applicant's name, supervisor's name, location of employment, work telephone number, home telephone number, position title, vehicle(s) make and model, state of vehicle registration, license tag number, expiration date, color of vehicle, parking permit number, and number of carpool riders if applicable. This list may not be exhaustive, but is indicative of the type of information included.

AUTHORITY FOR MAINTENANCE OF THE SYSTEM:

40 U.S.C. 471, et seq., FPMR Temporary Regulation D-69.

ROUTINE USES OF RECORDS MAINTAINED IN THE SYSTEM, INCLUDING CATEGORIES OF USERS AND THE PURPOSES OF SUCH USES:

The primary purposes of the system are:

(1) To manage the assignment of parking permits.

(2) To monitor the parking area for permit compliance and security surveillance.

(3) To assist individuals in locating carpools.

Disclosures outside the Department of the Interior may be made:

(1) To a Federal agency that has jurisdiction over parking spaces.

(2)(a) To any of the following entities or individuals when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(3) To appropriate Federal, State, local, or foreign agencies responsible for investigating or prosecuting the violation of or for enforcing or implementing a statute, rule, regulation, order, or license, when the disclosing agency becomes aware of a potential violation of a statute, rule, regulation, order, or license.

(4) To a congressional office in response to a written inquiry that an individual covered by the system, or the heir of such individual if the covered individual is deceased, has made to the office.

(5) To any criminal, civil, or regulatory law enforcement authority (whether federal, state, territorial, local, tribal or foreign) when a record, either alone or in conjunction with other information, indicates a violation or potential violation of law—criminal, civil, or regulatory in nature, and the disclosure is compatible with the purpose for which the records were compiled.

(6) To federal, state, territorial, local, tribal, or foreign agencies that have requested information relevant or necessary to the hiring, firing or retention of an employee or contractor, or the issuance of a security clearance, license, contract, grant or other benefit, when the disclosure is compatible with the purpose for which the records were compiled.

(7) To representatives of the National Archives and Records Administration to conduct records management inspections under the authority of 44 U.S.C. 2904 and 2906.

(8) To state and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) To appropriate agencies, entities, and persons when:

(a) It is suspected or confirmed that the security or confidentiality of information in the system of records has been compromised; and

(b) The Department has determined that as a result of the suspected or confirmed compromise that there is a risk of harm to economic or property interest, identity theft or fraud, or harm to the security or integrity of this system or other systems or programs (whether maintained by the Department or another agency or entity) that rely upon the compromised information; and

(c) The disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE STYSTEM:

STORAGE:

Records are maintained in both manual and electronic computer database form. Original input documents are stored in standard office filing equipment in locked Government offices at the stated location.

RETRIEVABILITY:

Records are retrieved by name of individual, office telephone number, home telephone number, position title, vehicle(s) make and model, state of vehicle registration, license tag number, parking permit number, and number of carpool riders if applicable.

SAFEGUARDS:

Records are maintained with safeguards meeting the requirements of 43 CFR 2.51 for manual and computerized records. Access to records is limited to authorized personnel whose official duties require such access.

(1) Physical Security: Paper records are maintained in locked file cabinets or in secured, locked rooms within a secured Government facility. Electronic records are maintained in computers and servers which are in locked, secure rooms.

(2) Technical Security: Electronic records are maintained in conformity with Office of Management and Budget and Departmental guidelines reflecting the implementation of the Federal Information Security Management Act. Electronic data is protected through user identification, passwords, database permissions, and software controls. These security measures establish different degrees of access for different types of users. An audit trail is maintained and reviewed periodically to identify unauthorized access.

(3) Administrative Security: All DOI and contractor employees with access to the Parking permit files are required to complete Privacy Act, Records Management Act, and IT Security Awareness training prior to being given access to the system, and on an annual basis, thereafter. In addition, all employees accessing either the paper records or the electronic form of the records are supervised by a Federal government employee who has granted such access only on a need to know basis.

RETENTION AND DISPOSAL:

Records are retained and disposed of in accordance with General Records Schedule No. 11, Space and Maintenance Records, Item No. 4a, Credentials Files (Parking Permits).

SYSTEM MANAGER(S) AND ADDRESS:

Parking Program Coordinator, Budget, Finance and Administration, Office of the Special Trustee for American Indians, U.S. Department of the Interior, 4400 Masthead Street, NE., Albuquerque, NM 87109.

NOTIFICATION PROCEDURES:

An individual requesting notification of the existence of records on himself or herself should address his/her request to the appropriate bureau/office System Manager. The request must be in writing, signed by the requester, and meet the content requirement of 43 CFR 2.60.

RECORDS ACCESS PROCEDURES:

A request for access to records shall be addressed to the System Manager. The request must be in writing, signed by the requester, and meet the content requirements of 43 CFR 2.63.

CONTESTING RECORDS PROCEDURES:

A request for amendment of records maintained on himself or herself shall be addressed to the System Manager. The request must be in writing, signed by the requester, and meet the content requirements of 43 CFR 2.71.

RECORD SOURCE CATERGORIES:

Individuals requesting a parking permit or joining a carpool.

EXEMPTIONS CLAIMED FOR THE SYSTEM:

None.

[FR Doc. E8-30187 Filed 12-18-08; 8:45 am]

BILLING CODE 4301-02-P